DEPARTMENT OF HOMELAND SECURITY

Immigration Parole Fee Required by HR-1 Reconciliation Bill

AGENCY: U.S. Department of Homeland Security.

ACTION: Notice of immigration fee.

SUMMARY: The Department of Homeland Security (DHS) is announcing the implementation of the parole fee established in HR-1. Specifically, this notice announces the new immigration parole fee of $1,000 for any alien who is paroled into the United States who does not meet an exception. Through this notice, DHS notifies the public that DHS will begin assessing and collecting this fee as required by HR-1.

DATES: This action is effective on October 16, 2025. The parole fee will apply for any alien that has a request for parole filed or pending prior to the effective date of this notice because the fee attaches when an alien is paroled into the United States.

FOR FURTHER INFORMATION CONTACT: Contacts for each component:

Office of Regulatory Affairs and Policy, U.S. Immigration and Customs Enforcement, Department of Homeland Security, 500 12th Street SW, Washington, DC 20536; telephone (202) 732-6960 (not a toll-free call).

Office of Chief Financial Officer, U.S. Citizenship and Immigration Services, Department of Homeland Security, 5900 Capital Gateway Drive, Camp Springs, MD 20746, telephone (240) 721-3000 (not a toll-free number).

Office of Field Operations, U.S. Customs and Border Protection, Department of Homeland Security, 1300 Pennsylvania Avenue NW, Suite 1500N, Washington, DC 20229, email address: parolenotification@cbp.dhs.gov.

SUPPLEMENTARY INFORMATION:

I. Background and Authority

On July 4, 2025, the President signed into law the One Big Beautiful Bill Act, Public Law 119-21, 139 Stat. 72 (HR-1). HR-1 was a comprehensive legislative package that changed many laws and added new laws that touch many areas of the United States Government. Among those changes, the law established several new fees related to immigration enforcement and lawful immigration programs.¹ The new immigration fees codified in HR-1 will be imposed on aliens in addition to any other fees authorized by law and by the Secretary of Homeland Security.² The fees are set for Fiscal Year (FY) 2025 and are, as established by statute, subject to annual increases based on the Consumer Price Index for All Urban Consumers.³

¹ See HR-1, Title X, Subtitle A, Part I, sections 100001 through 100018.

² See id.

³ See id.

DHS has already issued three notices implementing the new fees.⁴ The U.S. Citizenship and Immigration Services (USCIS) notice issued on July 22, 2025, noted that DHS was not announcing the immigration parole fee at that time because the multiple exceptions needed additional consideration.⁵ DHS reviewed the exceptions and now believes that the fee can be implemented without further delay. This notice, therefore, implements the immigration parole fee. U.S. Customs and Border Protection (CBP), U.S. Immigration and Customs Enforcement (ICE), and USCIS will issue appropriate guidance and create or update forms, if necessary.

⁴ USCIS Immigration Fees Required by HR-1 Reconciliation Bill, 90 FR 34511 (July 22, 2025) (USCIS Notice); CBP Immigration Fees Required by HR-1 for Fiscal Year 2025, 90 FR 42025 (Aug. 28, 2025); and Certain DHS Immigration Enforcement-Related Fees Required by HR-1 Reconciliation Bill, 90 FR 43223 (Sept. 8, 2025).

⁵ See 90 FR 34511 at 34516.

II. Parole

The Immigration and Nationality Act (“INA”) confers upon the Secretary of Homeland Security (“Secretary”) the discretionary authority to parole an applicant for admission into the United States “temporarily under such conditions as [DHS] may prescribe only on a case-by-case basis for urgent humanitarian reasons or significant public benefit.” ⁶ Moreover, an applicant for admission in DHS custody may be released pursuant to a parole under INA sec. 212(d)(5)(A), 8 U.S.C. 1182(d)(5)(A), for urgent humanitarian reasons or significant public benefit as long as the alien presents “neither a security risk nor a risk of absconding.” ⁷ When the purpose of the temporary, discretionary parole has been served, the alien is required to “return or be returned to the custody from which he was paroled and thereafter his case shall continue to be dealt with in the same manner as that of any other applicant for admission to the United States.” ⁸

⁶ See INA 212(d)(5)(A), 8 U.S.C. 1182(d)(5)(A); see also 8 CFR 212.5(a) and (c) through (e) (discretionary authority for establishing conditions of parole and for terminating parole).

⁷ 8 CFR 212.5(b).

⁸ INA 212(d)(5)(A), 8 U.S.C. 1182(d)(5)(A).

DHS may authorize parole for aliens outside the United States who must travel to a U.S. port of entry to seek parole.⁹ However, CBP has final discretionary authority to grant parole to aliens who appear for inspection at a U.S. port of entry.¹⁰ USCIS and ICE have final discretionary authority to grant parole to any alien applicant for admission within their responsibility who is physically present in the United States.¹¹

⁹ 8 CFR 212.5(f).

¹⁰ See Memorandum of Agreement Between United States Citizenship and Immigration Services (USCIS), United States Immigration and Customs Enforcement (ICE), and United States Customs and Border Protection (CBP) for the Purpose of Coordinating the Concurrent Exercise by USCIS, ICE, and CBP, of the Secretary's Parole Authority Under INA sec. 212(d)(5)(A) with Respect to Certain Aliens Located Outside of the United States, dated Sept. 29, 2008 (relating to USCIS's, ICE's, and CBP's concurrent exercise of parole authority and the framework governing which DHS component is to exercise jurisdiction over parole requests).

¹¹ See id.

III. New Immigration Parole Fee

This notice announces the imposition and collection of the new immigration parole fee of $1,000 for FY 2025 pursuant to HR-1. The fee must be paid by “any alien who is paroled into the United States.” ¹² DHS interprets this to mean that each time an alien is granted parole under INA sec. 212(d)(5)(A), 8 U.S.C. 1182(d)(5)(A), including initial parole from outside the United States, Congressionally-authorized “parole in place,” re-parole, or parole from DHS custody, the fee will be required. The fee will not be due when an application is merely submitted or when a travel document is issued, but rather, DHS will collect the $1,000 fee after it determines that the alien merits a grant of parole as a matter of discretion and the alien either appears for inspection at a port of entry or is already physically present in the United States.

¹² See Public Law 119-21 sec. 100004. See Markup of legislative proposals to comply with the reconciliation directive included in section 2001 of the Concurrent Resolution on the Budget for Fiscal Year 2025, H. Con. Res. 14, April 30, 2025, at https://www.congress.gov/event/119th-congress/house-event/118180 (last visited Sept. 12, 2025) (noting that the legislation is “a mandate to restore immigration integrity, security, and enforcement”).

The operative event that triggers the statutory obligation to pay the fee is the actual grant and effectuation of parole at or into the United States—not the filing of an application or request. The timing of the fee attaches when parole is effectuated, regardless of when the underlying application or request was submitted. This means that any parole granted on or after the effective date of this notice must be conditioned on payment of the fee unless an exception applies, even if the request for parole was filed or remained pending prior to October 16, 2025.

HR-1 provides ten exceptions to the $1,000 fee provided the alien establishes to the satisfaction of the Secretary of Homeland Security that the alien is being paroled because of one of the enumerated exceptions:

(1) The alien has a medical emergency and the alien cannot obtain necessary treatment in the foreign state in which the alien is residing; or the medical emergency is life-threatening and there is insufficient time for the alien to be admitted to the United States through the normal visa process;

(2) The alien is the parent or legal guardian of an alien described in paragraph (1) and the alien described in paragraph (1) is a minor;

(3) The alien is needed in the United States to donate an organ or other tissue for transplant; and there is insufficient time for the alien to be admitted to the United States through the normal visa process;

(4) The alien has a close family member in the United States whose death is imminent; and the alien could not arrive in the United States in time to see such family member alive if the alien were to be admitted to the United States through the normal visa process;

(5) The alien is seeking to attend the funeral of a close family member; and the alien could not arrive in the United States in time to attend such funeral if the alien were to be admitted to the United States through the normal visa process;

(6) The alien is an adopted child who has an urgent medical condition; who is in the legal custody of the petitioner for a final adoption-related visa; and whose medical treatment is required before the expected award of a final adoption-related visa;

(7) The alien is a lawful applicant for adjustment of status under section 245 of the INA (8 U.S.C. 1255); and is returning to the United States after temporary travel abroad;

(8) The alien has been returned to a contiguous country pursuant to section 235(b)(2)(C) of the INA (8 U.S.C. 1225(b)(2)(C)); and is being paroled into the United States to allow the alien to attend the alien's immigration hearing;

(9) The alien has been granted the status of Cuban and Haitian entrant (as defined in section 501(e) of the Refugee Education Assistance Act of 1980 (Pub. L. 96-422; 8 U.S.C. 1522 note); or

(10) The Secretary of Homeland Security determines that a significant public benefit has resulted or will result from the parole of an alien who has assisted or will assist the United States Government in a law enforcement matter; whose presence is required by the United States Government in furtherance of such law enforcement matter; and who is inadmissible or does not satisfy the eligibility requirements for admission as a nonimmigrant or for which there is insufficient time for the alien to be admitted to the United States through the normal visa process.¹³

¹³ Public Law 119-21 sec. 100004(b).

The HR-1 fee will not be assessed if DHS finds, in its discretion, that the alien has established that the alien is being paroled under one of the ten enumerated exceptions.

IV. Collection

CBP will collect the parole fee described in this notice for aliens who apply for admission to the United States if (1) the alien requests parole by presenting themselves for inspection at a U.S. port of entry (including aliens who have been authorized by another DHS agency to travel to the port of entry and seek parole); (2) CBP, in its discretion, determines that the alien should be granted parole under INA sec. 212(d)(5)(A); and (3) the alien does not demonstrate, in CBP's discretion, they are eligible for a fee exception pursuant to H.R. 1, Public Law 119-21, 139 Stat. 367-68 (8 U.S.C. 1804). If CBP determines that an alien should be granted parole and the alien is subject to the parole fee described in this notice, CBP will notify the alien of the applicability of the parole fee and provide instructions on how to pay the fee required as of October 16, 2025.

ICE will collect the fee when it grants parole under INA sec. 212(d)(5)(A) to aliens within its responsibility who are physically present in the United States. ICE will individually notify aliens to whom the $1,000 fee applies and, upon notification, provide instructions on how to pay the fee required as of October 16, 2025.

USCIS will collect the HR-1 fee when it grants parole under INA sec. 212(d)(5)(A) to aliens within its responsibility who are physically present in the United States. Beginning on October 16, 2025, when USCIS decides to favorably adjudicate a Form I-131 for parole in place or re-parole for aliens physically present in the United States, USCIS will issue a notice prior to final adjudication stating that the parole approval is conditioned upon payment of the HR-1 parole fee. This notice will contain payment instructions and a deadline. Parole will only be granted after the fee has been paid. Failure to pay within the time period provided in the conditional approval notice would result in denial of the request.

V. Paperwork Reduction Act

Under the Paperwork Reduction Act (PRA), 44 U.S.C. chapter 35, all Departments are required to be submitted to the Office of Management and Budget (OMB), for review and approval, of any new reporting requirements they impose. The process announced by this notice requires the use of USCIS Form I-131, Application for Travel Documents, Parole Documents, and Arrival/Departure Records, (OMB control number 1615-0013) but does not require any edits to the form or instructions.

Kristi Noem,
Secretary, U.S. Department of Homeland Security.

[FR Doc. 2025-19564 Filed 10-15-25; 8:45 am]

BILLING CODE 9112-FP-P